ENVIRONMENTAL PROTECTION AGENCY

40 CFR Part 55

[EPA-R02-OAR-2024-0277; FRL 12035-02-R2]

Outer Continental Shelf Air Regulations Update To Include New Jersey State Requirements

AGENCY: Environmental Protection Agency.

ACTION: Final rule.

SUMMARY: The Environmental Protection Agency (EPA) is finalizing an update of a portion of the Outer Continental Shelf (OCS) air regulations proposed in the Federal Register on July 16, 2024. Requirements applying to OCS sources located within 25 miles of States' seaward boundaries must be updated periodically to remain consistent with the requirements of the corresponding onshore area (COA), as mandated by the Clean Air Act (CAA). The portion of the OCS air regulations that is being updated here pertains to the requirements for OCS sources for which the State of New Jersey is the COA. The intended effect of approving the OCS requirements for the State of New Jersey is to regulate emissions from OCS sources in accordance with the requirements onshore. The requirements discussed below are proposed to be incorporated by reference into the Code of Federal Regulations and listed in the appendix to the OCS air regulations.

DATES: This final rule is effective on November 29, 2024. The incorporation by reference of a certain publication listed in this rule is approved by the Director of the Federal Register as of November 29, 2024.

ADDRESSES: EPA has established a docket for this action under Docket ID Number EPA-R02-OAR-2024-0277. All documents in the docket are available at www.regulations.gov.

FOR FURTHER INFORMATION CONTACT: Viorica Petriman, Air Programs Branch, Permitting Section, U.S. Environmental Protection Agency, Region 2, 290 Broadway, New York, New York 10007, (212) 637-4021, petriman.viorica@epa.gov.

SUPPLEMENTARY INFORMATION:

Table of Contents

I. What is the background for this action?

II. What comments were received in response to EPA's proposed action?

III. What action is EPA taking?

IV. Incorporation by Reference

V. Statutory and Executive Order Reviews

VI. Judicial Review

I. What is the background for this action?

On July 16, 2024, EPA proposed to incorporate by reference into the OCS air regulations at 40 CFR part 55 (“Part 55”) ¹ updated requirements pertaining to the State of New Jersey. See 89 FR 57828. The action that EPA is taking today in this rule is to finalize those proposed updates.

¹ For more information and background on the OCS regulations generally, the reader may refer to the Proposed Rulemaking, December 5, 1991 (56 FR 63774), and the final rule promulgated September 4, 1992 (57 FR 40792).

Section 328(a) of the CAA requires that for such OCS sources located within 25 miles of a State's seaward boundary, the requirements shall be the same as would be applicable if the sources were located in the corresponding onshore area (COA). Because the OCS requirements are based on onshore requirements, and onshore requirements may change, CAA section 328(a)(1) requires that EPA update the OCS requirements as necessary to maintain consistency with onshore requirements. To comply with this statutory mandate, EPA must incorporate by reference into part 55 all relevant State rules in effect for onshore sources, so they can be applied to OCS sources located offshore. This limits EPA's flexibility in deciding which requirements will be incorporated into 40 CFR part 55 and prevents EPA from making substantive changes to the requirements it incorporates. As a result, EPA may be incorporating rules into 40 CFR part 55 that do not conform to all of EPA's State implementation plan (SIP) guidance or certain requirements of the CAA. Inclusion in the OCS rule does not imply that a rule meets the requirements of the CAA for SIP approval, nor does it imply that the rule will be approved by EPA for inclusion in the SIP. 40 CFR 55.12 specifies certain times at which part 55's incorporation by reference of a State's rules must be updated. One time such a “consistency update” must occur is when any OCS source applicant submits a Notice of Intent (NOI) under 40 CFR 55.4 for a new or a modified OCS source. 40 CFR 55.4(a) requires that any OCS source applicant must submit to EPA an NOI before performing any physical change or change in method of operation that results in an increase in emissions if the OCS source is located within 25 miles of a State's seaward boundaries. EPA must conduct any necessary consistency update when it receives an NOI, and prior to receiving any application for a preconstruction permit from the OCS source applicant. 40 CFR 55.6(b)(2) and 55.12(f). On May 10, 2024, EPA received a NOI from Atlantic Shores Offshore Wind Project 3, LLC to submit an OCS permit application for the construction of a new OCS source (a wind energy project) about 7.3 nautical miles offshore New Jersey.

EPA reviewed the New Jersey State Department of Environmental Protection (“NJDEP”) air rules currently in effect, to ensure that they are rationally related to the attainment or maintenance of Federal and State ambient air quality standards (AAQS) or part C of title I of the CAA, that they are not designed expressly to prevent exploration and development of the OCS, and that they are applicable to OCS sources. See 40 CFR 55.1. EPA has also evaluated the rules to ensure they are not arbitrary and capricious. See 40 CFR 55.12(e). EPA has excluded New Jersey's administrative or procedural rules,² and requirements that regulate toxics which are not related to the attainment and maintenance of Federal and State AAQS.

² Each COA which has been delegated the authority to implement and enforce part 55 will use its administrative and procedural rules as onshore. However, in those instances where EPA has not delegated authority to implement and enforce part 55, as is the case in New Jersey, EPA will use its own administrative and procedural requirements to implement the substantive requirements. See 40 CFR 55.14(c)(4).

II. What comments were received in response to EPA's proposed action?

EPA's proposed action provided a 30-day public comment period, which closed on August 15, 2024. During this period, we received one comment ³ that supports and acknowledges the importance of EPA's proposed action to update a portion of part 55 that pertains to the requirements for OCS sources for which the State of New Jersey is the COA, so that those requirements could then be applied to the respective OCS sources.

³ The comment received reads as follows: “This is in regard to Docket number: EPA_FR DOC_0001, regarding the outer continental shelf air regulations update, to include New Jersey State requirements. A part of the Outer Continental Shelf (OCS) Air Regulations needs to be updated, in accordance to the proposal made by the Environment Protection Agency (EPA). The Clean Air Act (CAA) mandates that requirements for OCS sources located within 25 miles of a State's seaward boundary be updated on a regular basis to ensure compliance with the standards of the corresponding onshore region (COA). Emissions from OCS sources will be regulated in line with onshore regulations as a result of the State of New Jersey's OCS requirements being approved. Air pollution has been an increasing problem in recent times. The atmosphere has been massively impacted by air pollution, leading to changes in the climate. This proposed rule would allow more control over air pollution from OCS sources, maintaining Federal and State ambient air quality standards (AAQS). As we look to find solutions for air pollution in our environment, we need to work with OCS to make sure their regulations are up to standards with the Federal program.”

III. What action is EPA taking?

EPA is taking final action to incorporate by reference relevant New Jersey air pollution control rules that are currently in effect into 40 CFR 55.14 and to update the “New Jersey” section of appendix A to 40 CFR part 55, which lists those rules. EPA is approving this action under section 328(a) of the CAA, 42 U.S.C. 7627(a). Section 328(a) of the CAA requires that EPA establish requirements to control air pollution from OCS sources located within 25 miles of a States' seaward boundaries that are the same as onshore requirements. To comply with this statutory mandate, EPA must incorporate applicable onshore rules into 40 CFR part 55 as they exist onshore.

IV. Incorporation by Reference

In this rule, EPA is finalizing regulatory text that includes incorporation by reference as described in sections I and II of this preamble. In accordance with the requirements of 1 CFR 51.5, EPA is finalizing the incorporation by reference of “State of New Jersey Requirements Applicable to OCS Sources”, which provides the New Jersey air rules in effect as of June 6, 2024, that would apply to OCS sources. EPA has made, and will continue to make, this material available through www.regulations.gov and at EPA Region 2 Office (please contact the person identified in the FOR FURTHER INFORMATION CONTACT section of this preamble for more information).

V. Statutory and Executive Order Reviews

Under the Clean Air Act, the Administrator is required to establish requirements to control air pollution from OCS sources located within 25 miles of States' seaward boundaries that are the same as onshore air control requirements. To comply with this statutory mandate, EPA must incorporate applicable onshore rules into part 55 as they exist onshore. 42 U.S.C. 7627(a)(1); 40 CFR 55.12. Thus, in promulgating OCS consistency updates, EPA's role is to maintain consistency between OCS regulations and the regulations of onshore areas, provided that they meet the criteria of the Clean Air Act. Accordingly, this action simply updates the existing OCS requirements to make them consistent with requirements onshore, without the exercise of any policy discretion by EPA.

a. Executive Order 12866, Regulatory Planning and Review

This action is not a “significant regulatory action” under the terms of Executive Orders (E.O.) 12866 (58 FR 51735, October 4, 1993) and 13563 (76 FR 3821, January 21, 2011) and is therefore not subject to review under the E.O.

b. Paperwork Reduction Act (PRA)

This action does not impose any new information collection burden under PRA because this action only updates the State rules that are incorporated by reference into 40 CFR part 55, appendix A. OMB has previously approved the information collection activities contained in the existing regulations at 40 CFR part 55 and, by extension, this update to 40 CFR part 55, and has assigned OMB control number 2060-0249. This action does not impose a new information burden under PRA because this action only updates the State rules that are incorporated by reference into 40 CFR part 55, appendix A.

c. Regulatory Flexibility Act (RFA)

I certify that this action will not have a significant impact on a substantial number of small entities under the RFA. This proposed rule does not impose any requirements or create impacts on small entities. This proposed consistency update under CAA section 328 will not create any new requirements but simply proposes to update the State requirements incorporated by reference into 40 CFR part 55 to match the current State requirements.

d. Unfunded Mandates Reform Act (UMRA)

This action does not contain any unfunded mandate or significantly or uniquely affect small governments as described in UMRA, 2 U.S.C. 1531-1538. The action imposes no enforceable duty on any State, local or Tribal governments.

e. Executive Order 13132, Federalism

This action does not have federalism implications. It will not have substantial direct effects on the States, on the relationship between the national government and the States, or on the distribution of power and responsibilities among the various levels of government.

f. Executive Order 13175, Coordination With Indian Tribal Governments

This action does not have Tribal implications, as specified in Executive Order 13175 (65 FR 67249, November 9, 2000), because it does not have a substantial direct effect on one or more Indian Tribes, on the relationship between the Federal government and Indian Tribes, or on the distribution of power and responsibilities between the Federal government and Indian Tribes, nor does it impose substantial direct costs on Tribal governments, nor preempt Tribal law. It merely proposes to update the State law incorporated by reference into 40 CFR part 55 to match current State requirements.

g. Executive Order 13045, Protection of Children From Environmental Health Risks and Safety Risks

EPA interprets Executive Order 13045 as applying only to those regulatory actions that concern health or safety risks that EPA has reason to believe may disproportionately affect children, per the definition of “covered regulatory action” in section 2-202 of the Executive Order. This action is not subject to Executive Order 13045 because it is not an economically significant regulatory action based on health or safety risks subject to Executive Order 13045 and simply proposes to update the State requirements incorporated by reference into 40 CFR part 55 to match the current State requirements.

h. Executive Order 13211, Actions That Significantly Affect Energy Supply, Distribution, or Use

This proposed rule is not subject to Executive Order 13211 because it is not a significant regulatory action under Executive Order 12866.

i. National Technology Transfer and Advancement Act

This rulemaking is not subject to requirements of section 12(d) of the National Technology Transfer and Advancement Act of 1995 (15 U.S.C. 272 note) because application of those requirements would be inconsistent with the Clean Air Act.

j. Executive Order 12898: Federal Actions To Address Environmental Justice in Minority Populations and Low-Income Population

EPA believes that this action is not subject to Executive Order 12898 (59 FR 7629, February 16, 1994) because it does not provide EPA with the discretionary authority to address, as appropriate, disproportionate human health, or environmental effects, using practicable and legally permissible methods.

k. Congressional Review Act (CRA)

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

VI. Judicial Review

Under section 307(b)(1) of the Clean Air Act, petitions for judicial review of this action must be filed in the United States Court of Appeals for the appropriate circuit by December 30, 2024. Filing a petition for reconsideration by the Administrator of this final rule does not affect the finality of this action for the purposes of judicial review nor does it extend the time within which a petition for judicial review may be filed and shall not postpone the effectiveness of such rule or action. This action may not be challenged later in proceedings to enforce its requirements. See CAA section 307(b)(2).

List of Subjects in 40 CFR Part 55

Environmental protection, Administrative practice and procedures, Air pollution control, Hydrocarbons, Incorporation by reference, Intergovernmental relations, Nitrogen dioxide, Nitrogen oxides, Outer Continental Shelf, Ozone, Particulate matter, Permits, Reporting and recordkeeping requirements, Sulfur oxides.

Lisa Garcia,
Regional Administrator, Region 2.

For the reasons set out in the preamble, amend title 40 of the Code of Federal Regulations, part 55, as follows.

PART 55—OUTER CONTINENTAL SHELF AIR REGULATIONS

1. The authority citation for 40 CFR part 55 continues to read as follows:

Authority: Section 328 of the Clean Air Act (42 U.S.C. 7401, et seq.) as amended by Public Law 101-549.

2. Section 55.14 is amended by revising paragraph (e)(15)(i)(A) to read as follows:

§ 55.14 Requirements that apply to OCS sources located within 25 miles of States' seaward boundaries, by State.

* * * * *

(e) * * *

(15) * * *

(i) * * *

(A) State of New Jersey Requirements Applicable to OCS Sources, June 6, 2024.

* * * * *

3. Appendix A to 40 CFR part 55 is amended by revising the entry for “New Jersey” to read as follows:

Appendix A to Part 55—Listing of State and Local Requirements Incorporated by Reference Into Part 55, by State

* * * * *

New Jersey

(a) State requirements.

(1) The following State of New Jersey requirements are applicable to OCS Sources, as of June 6, 2024. New Jersey Department of Environmental Protection-New Jersey Administrative Code. The following sections of Title 7:

Chapter 27 Subchapter 2—Control and Prohibition of Open Burning (Effective 6/20/1994)

N.J.A.C. 7:27-2.1. Definitions

N.J.A.C. 7:27-2.2. Open burning for salvage operations

N.J.A.C. 7:27-2.3. Open burning of refuse

N.J.A.C. 7:27-2.4. General provisions

N.J.A.C. 7:27-2.6. Prescribed burning

N.J.A.C. 7:27-2.7. Emergencies

N.J.A.C. 7:27-2.8. Dangerous material

N.J.A.C. 7:27-2.12. Special permit

N.J.A.C. 7:27-2.13. Fees

Chapter 27 Subchapter 3—Control and Prohibition of Smoke From Combustion of Fuel (Effective 2/4/2002)

N.J.A.C. 7:27-3.1. Definitions

N.J.A.C. 7:27-3.2. Smoke emissions from stationary indirect heat exchangers

N.J.A.C. 7:27-3.3. Smoke emissions from marine installations

N.J.A.C. 7:27-3.4. Smoke emissions from the combustion of fuel in mobile sources

N.J.A.C. 7:27-3.5. Smoke emissions from stationary internal combustion engines and stationary turbine engines

N.J.A.C. 7:27-3.6. Stack test

N.J.A.C. 7:27-3.7. Exceptions

Chapter 27 Subchapter 4—Control and Prohibition of Particles From Combustion of Fuel (Effective 4/20/2009)

N.J.A.C. 7:27-4.1. Definitions

N.J.A.C. 7:27-4.2. Standards for the emission of particles

N.J.A.C. 7:27-4.3. Performance test principle

N.J.A.C. 7:27-4.4. Emissions tests

N.J.A.C. 7:27-4.6. Exceptions

Chapter 27 Subchapter 5—Prohibition of Air Pollution (Effective 10/12/1977)

N.J.A.C. 7:27-5.1. Definitions

N.J.A.C. 7:27-5.2. General provisions

Chapter 27 Subchapter 6—Control and Prohibition of Particles From Manufacturing Processes (Effective 5/4/1998)

N.J.A.C. 7:27-6.1. Definitions

N.J.A.C. 7:27-6.2. Standards for the emission of particles

N.J.A.C. 7:27-6.3. Performance test principles

N.J.A.C. 7:27-6.4. Emissions tests

N.J.A.C. 7:27-6.5. Variances

N.J.A.C. 7:27-6.7. Exceptions

Chapter 27 Subchapter 7—Sulfur (Effective 11/6/2017)

N.J.A.C. 7:27-7.1. Definitions

N.J.A.C. 7:27-7.2. Control and prohibition of air pollution from sulfur compounds

Chapter 27 Subchapter 8—Permits and Certificates for Minor Facilities (and Major Facilities Without an Operating Permit) (Effective 11/20/2023)

N.J.A.C. 7:27-8.1. Definitions

N.J.A.C. 7:27-8.2. Applicability

N.J.A.C. 7:27-8.3. General provisions

N.J.A.C. 7:27-8.4. How to apply, register, submit a notice, or renew

N.J.A.C. 7:27-8.5. Air quality impact analysis

N.J.A.C. 7:27-8.6. Service fees

N.J.A.C. 7:27-8.7. Operating certificates

N.J.A.C. 7:27-8.8. General permits

N.J.A.C. 7:27-8.9. Environmental improvement pilot tests

N.J.A.C. 7:27-8.11. Standards for issuing a permit

N.J.A.C. 7:27-8.12. State of the art

N.J.A.C. 7:27-8.13. Conditions of approval

N.J.A.C. 7:27-8.14. Denials

N.J.A.C. 7:27-8.15. Reporting requirements

N.J.A.C. 7:27-8.16. Revocation

N.J.A.C. 7:27-8.17. Changes to existing permits and certificates

N.J.A.C. 7:27-8.18. Permit revisions

N.J.A.C. 7:27-8.19. Compliance plan changes

N.J.A.C. 7:27-8.20. Seven-day notice changes

N.J.A.C. 7:27-8.21. Amendments

N.J.A.C. 7:27-8.23. Reconstruction

N.J.A.C. 7:27-8.24. Special provisions for construction but not operation

N.J.A.C. 7:27-8.25. Special provisions for pollution control equipment or pollution prevention process modifications

Appendix 1

Chapter 27 Subchapter 9—Sulfur in Fuels (Effective 9/20/2010)

N.J.A.C. 7:27-9.1. Definitions

N.J.A.C. 7:27-9.2. Sulfur content standards

N.J.A.C. 7:27-9.3. Exemptions

N.J.A.C. 7:27-9.4. Waiver of air quality modeling

Chapter 27 Subchapter 10—Sulfur in Solid Fuels (Effective 9/6/2011)

N.J.A.C. 7:27-10.1. Definitions

N.J.A.C. 7:27-10.2. Sulfur contents standards

N.J.A.C. 7:27-10.3. Expansion, reconstruction, or construction of solid fuel burning units

N.J.A.C. 7:27-10.4. Exemptions

N.J.A.C. 7:27-10.5. SO2 emission rate determinations

Chapter 27 Subchapter 11—Incinerators (Effective 5/4/1998)

N.J.A.C. 7:27-11.1. Definitions

N.J.A.C. 7:27-11.2. Construction standards

N.J.A.C. 7:27-11.3. Emission standards

N.J.A.C. 7:27-11.4. Permit to construct; certificate to operate

N.J.A.C. 7:27-11.5. Operation

N.J.A.C. 7:27-11.6. Exceptions

Chapter 27 Subchapter 12—Prevention and Control of Air Pollution Emergencies (Effective 5/20/1974)

N.J.A.C. 7:27-12.1. Definitions

N.J.A.C. 7:27-12.2. Emergency criteria

N.J.A.C. 7:27-12.3. Criteria for emergency termination

N.J.A.C. 7:27-12.4. Standby plans

N.J.A.C. 7:27-12.5. Standby orders

Table I Emission Reduction Objectives

Table II Emission Reduction Objectives

Table III Emission Reduction Objectives

Chapter 27 Subchapter 16—Control and Prohibition of Air Pollution by Volatile Organic Compounds (Effective 4/4/2022)

N.J.A.C. 7:27-16.1. Definitions

N.J.A.C. 7:27-16.1A. Purpose, scope, applicability, and severability

N.J.A.C. 7:27-16.2. VOC stationary storage tanks

N.J.A.C. 7:27-16.3. Gasoline transfer operations

N.J.A.C. 7:27-16.4. VOC transfer operations, other than gasoline

N.J.A.C. 7:27-16.5. Marine tank vessel loading and ballasting operations

N.J.A.C. 7:27-16.6. Open top tanks and solvent cleaning operations

N.J.A.C. 7:27-16.7. Surface coating and graphic arts operations

N.J.A.C. 7:27-16.8. Boilers

N.J.A.C. 7:27-16.9. Stationary combustion turbines

N.J.A.C. 7:27-16.10. Stationary reciprocating engines

N.J.A.C. 7:27-16.12. Surface coating operations at mobile equipment repair and refinishing facilities

N.J.A.C. 7:27-16.13. Flares

N.J.A.C. 7:27-16.16. Other source operations

N.J.A.C. 7:27-16.17. Alternative and facility-specific VOC control requirements

N.J.A.C. 7:27-16.18. Leak detection and repair

N.J.A.C. 7:27-16.19. Application of cutback and emulsified asphalts

N.J.A.C. 7:27-16.21. Natural gas pipelines

N.J.A.C. 7:27-16.22. Emission information, record keeping and testing

N.J.A.C. 7:27-16.23. Procedures for demonstrating compliance

N.J.A.C. 7:27-16.27. Exceptions

Appendix I

Appendix II

Chapter 27 Subchapter 18—Control and Prohibition of Air Pollution From New or Altered Sources Affecting Ambient Air Quality (Emission Offset Rules) (Effective 11/6/2017)

N.J.A.C. 7:27-18.1. Definitions

N.J.A.C. 7:27-18.2. Facilities subject to this subchapter

N.J.A.C. 7:27-18.3. Standards for issuance of permits

N.J.A.C. 7:27-18.4. Air quality impact analysis

N.J.A.C. 7:27-18.5. Standards for use of emission reductions as emission offsets

N.J.A.C. 7:27-18.6. Emission offset postponement

N.J.A.C. 7:27-18.7. Determination of a net emission increase or a significant net emission increase

N.J.A.C. 7:27-18.8. Banking of emission reductions

N.J.A.C. 7:27-18.9. Secondary emissions

N.J.A.C. 7:27-18.10. Exemptions

N.J.A.C. 7:27-18.12. Civil or criminal penalties for failure to comply

Chapter 27 Subchapter 19—Control and Prohibition of Air Pollution From Oxides of Nitrogen (Effective 1/16/2018)

N.J.A.C. 7:27-19.1. Definitions

N.J.A.C. 7:27-19.2. Purpose, scope, and applicability

N.J.A.C. 7:27-19.3. General provisions

N.J.A.C. 7:27-19.4. Boilers serving electric generating units

N.J.A.C. 7:27-19.5. Stationary combustion turbines

N.J.A.C. 7:27-19.6. Emissions averaging

N.J.A.C. 7:27-19.7. Industrial/commercial/institutional boilers and other indirect heat exchangers

N.J.A.C. 7:27-19.8. Stationary reciprocating engines

N.J.A.C. 7:27-19.11. Emergency generators—recordkeeping

N.J.A.C. 7:27-19.13. Alternative and facility-specific NOX emission limits

N.J.A.C. 7:27-19.14. Procedures for obtaining approvals under this subchapter

N.J.A.C. 7:27-19.15. Procedures and deadlines for demonstrating compliance

N.J.A.C. 7:27-19.16. Adjusting combustion processes

N.J.A.C. 7:27-19.17. Source emissions testing

N.J.A.C. 7:27-19.18. Continuous emissions monitoring

N.J.A.C. 7:27-19.19. Recordkeeping and recording

N.J.A.C. 7:27-19.20. Fuel switching

N.J.A.C. 7:27-19.21. Phased compliance—repowering

N.J.A.C. 7:27-19.23. Phased compliance—use of innovative control technology

N.J.A.C. 7:27-19.25. Exemption for emergency use of fuel oil

N.J.A.C. 7:27-19.26. Penalties

Chapter 27 Subchapter 20—Used Oil Combustion (Effective 9/6/2011)

N.J.A.C. 7:27-20.1. Definitions

N.J.A.C. 7:27-20.2. General provisions

N.J.A.C. 7:27-20.3. Burning of on-specification used oil in space heaters covered by a registration

N.J.A.C. 7:27-20.4. Burning of on-specification used oil in space heaters covered by a permit

N.J.A.C. 7:27-20.5. Demonstration that used oil is on-specification

N.J.A.C. 7:27-20.6. Burning of on-specification oil in other combustion units

N.J.A.C. 7:27-20.7. Burning of off-specification used oil

N.J.A.C. 7:27-20.8. Ash standard

N.J.A.C. 7:27-20.9. Exception

Chapter 27 Subchapter 21—Emission Statements (Effective 6/6/2022)

N.J.A.C. 7:27-21.1. Definitions

N.J.A.C. 7:27-21.2. Applicability

N.J.A.C. 7:27-21.3. General provisions

N.J.A.C. 7:27-21.4. Procedures for submitting an emission statement

N.J.A.C. 7:27-21.5. Required contents of an emission statement

N.J.A.C. 7:27-21.6. Methods to be used for quantifying actual emissions

N.J.A.C. 7:27-21.7. Recordkeeping requirements

N.J.A.C. 7:27-21.8. Certification of information

N.J.A.C. 7:27-21.9. Request for extensions

N.J.A.C. 7:27-21.10. Determination of non-applicability

N.J.A.C. 7:27-21.11. Severability

Appendix 1

Chapter 27 Subchapter 22—Operating Permits (Effective 1/3/2023)

N.J.A.C. 7:27-22.1. Definitions

N.J.A.C. 7:27-22.2. Applicability

N.J.A.C. 7:27-22.3. General provisions

N.J.A.C. 7:27-22.4. General application procedures

N.J.A.C. 7:27-22.5. Application procedures for initial operating permits

N.J.A.C. 7:27-22.6. Operating permit application contents

N.J.A.C. 7:27-22.7. Application shield

N.J.A.C. 7:27-22.8. Air quality simulation modeling and risk assessment

N.J.A.C. 7:27-22.9. Compliance plans

N.J.A.C. 7:27-22.10. Completeness reviews

N.J.A.C. 7:27-22.11. Public comment

N.J.A.C. 7:27-22.12. EPA comment

N.J.A.C. 7:27-22.13. Final action on an application

N.J.A.C. 7:27-22.14. General operating permits

N.J.A.C. 7:27-22.15. Temporary facility operating permits

N.J.A.C. 7:27-22.16. Operating permit contents

N.J.A.C. 7:27-22.17. Permit shield

N.J.A.C. 7:27-22.18. Source emissions testing and monitoring

N.J.A.C. 7:27-22.19. Recordkeeping, reporting and compliance certification

N.J.A.C. 7:27-22.20. Administrative amendments

N.J.A.C. 7:27-22.21. Changes to insignificant source operations

N.J.A.C. 7:27-22.22. Seven-day-notice changes

N.J.A.C. 7:27-22.23. Minor modifications

N.J.A.C. 7:27-22.24. Significant modifications

N.J.A.C. 7:27-22.24A. Reconstruction

N.J.A.C. 7:27-22.25. Department initiated operating permit modifications

N.J.A.C. 7:27-22.26. MACT and GACT standards

N.J.A.C. 7:27-22.27. Operating scenarios

N.J.A.C. 7:27-22.28A. Emissions trading

N.J.A.C. 7:27-22.28B. Facility-specific emissions averaging programs

N.J.A.C. 7:27-22.29. Facilities subject to acid deposition control

N.J.A.C. 7:27-22.30. Renewals

N.J.A.C. 7:27-22.31. Fees

N.J.A.C. 7:27-22.32. Hearings and appeals

N.J.A.C. 7:27-22.33. Preconstruction review

N.J.A.C. 7:27-22.34. Early reduction of HAP emissions

N.J.A.C. 7:27-22.35. Advances in the art of air pollution

Appendix

Table A

Chapter 27B Subchapter 1—Sampling and Analytical Procedures for Determining Emissions of Particles From Manufacturing Processes and From Combustion of Fuels (Effective 6/21/1976)

N.J.A.C. 7:27B-1.1. Definitions

N.J.A.C. 7:27B-1.2. Acceptable test methods

N.J.A.C. 7:27B-1.3. Operating conditions during the test

N.J.A.C. 7:27B-1.4. Sampling facilities to be provided by the person responsible for emissions

N.J.A.C. 7:27B-1.5. Sampling train

N.J.A.C. 7:27B-1.6. Performance test principle

N.J.A.C. 7:27B-1.7. General testing requirements

N.J.A.C. 7:27B-1.8. Required test data

N.J.A.C. 7:27B-1.9. Preparation for sampling

N.J.A.C. 7:27B-1.10. Sampling

N.J.A.C. 7:27B-1.11. Sample recovery

N.J.A.C. 7:27B-1.12. Analysis

N.J.A.C. 7:27B-1.13. Calculations

N.J.A.C. 7:27B-1.14. Validation of test

Chapter 27B Subchapter 2—Procedures for Visual Determination of the Opacity (Percent) and Shade or Appearance (Ringelmann Number) of Emissions From Sources (Effective 6/21/1976)

N.J.A.C. 7:27B-2.1. Definitions

N.J.A.C. 7:27B-2.2. Acceptable observation methods

N.J.A.C. 7:27B-2.3. Observation principle

N.J.A.C. 7:27B-2.4. General observation requirements

N.J.A.C. 7:27B-2.5. Required observation data

N.J.A.C. 7:27B-2.6. Certification

References

Appendix

Chapter 27B Subchapter 3—Air Test Method 3: Sampling and Analytical Procedures for the Determination of Volatile Organic Compounds From Source Operations (Effective 12/1/2008)

N.J.A.C. 7:27B-3.1. Definitions

N.J.A.C. 7:27B-3.2. Sampling and analytical protocol: acceptable test methods

N.J.A.C. 7:27B-3.3. Operating conditions during the test

N.J.A.C. 7:27B-3.4. Sampling facilities

N.J.A.C. 7:27B-3.5. Source operations and applicable test methods

N.J.A.C. 7:27B-3.6. Procedures for the determinations of vapor pressures of a single known VOC or mixtures of known and/or unknown VOC

N.J.A.C. 7:27B-3.7. Procedures for the direct measurement of volatile organic compounds using a flame ionization detector (FID), a photoionization detector (PID) or a non-dispersive infrared analyzer (NDIR)

N.J.A.C. 7:27B-3.8. Procedures for the direct measurement of volatile organic compounds using a gas chromatograph (GC) with a flame ionization detector (FID) or other suitable detector

N.J.A.C. 7:27B-3.9. Procedures for the sampling and remote analysis of known volatile organic compounds using a gas chromatograph (GC) with a flame ionization detector (FID) or other suitable detector

N.J.A.C. 7:27B-3.10. Procedures for the determination of volatile organic compounds in surface coating formulations

N.J.A.C. 7:27B-3.11. Procedures for the determination of volatile organic compounds emitted from transfer operations using a flame ionization detector (FID) or non-dispersive infrared analyzer (NDIR)

N.J.A.C. 7:27B-3.12. Procedures for the determination of volatile organic compounds in cutback and emulsified asphalts

N.J.A.C. 7:27B-3.13. Procedures for the determination of leak tightness of gasoline delivery vessels

N.J.A.C. 7:27B-3.14. Procedures for the direct detection of fugitive volatile organic compound leaks

N.J.A.C. 7:27B-3.15. Procedures for the direct detection of fugitive volatile organic compound leaks from gasoline tank trucks and vapor collection systems using a combustible gas detector

N.J.A.C. 7:27B-3.18. Test methods and sources incorporated by reference.

* * * * *

[FR Doc. 2024-25141 Filed 10-29-24; 8:45 am]

BILLING CODE 6560-50-P